DEPARTMENT OF AGRICULTURE

Forest Service

Intermountain Region, Boise National Forest, Idaho City Ranger District; Idaho; Becker Integrated Resource Project

AGENCY: Forest Service, USDA.

ACTION: Notice of Intent to Prepare an Environmental Impact Statement.

SUMMARY: The Forest Service will prepare an Environmental Impact Statement (EIS) to disclose the environmental consequences of implementing alternatives considered for the Becker Integrated Resource Project. The 19,327 acre Becker project area falls within the Crooked River Watershed. The area is located approximately 18 miles northeast of Idaho City, Idaho, and about 48 miles northeast of Boise, Idaho, in Boise County. The primary travel routes in the project area include State Highway 21 and National Forest System (NFS) roads 336, 362, 384, 385, 393 and 394. The proposal includes 10,624 acres of vegetation management and fuels treatments, closing 24 miles of NFS roads to public motorized use, decommissioning an additional 30.8 miles of NFS and unauthorized roads, designating 23.7 miles of new motorized trail for vehicles less than or equal to 50 inches in width, authorizing 41.4 miles of non-motorized summer trails, authorizing 55.7 miles of non-motorized winter trails, including a winter motorized restriction area surrounding the winter non-motorized trails, and removing barriers on 23 culverts to improve fish passage. The project documents are available electronically on the project Web page located at: www.fs.fed.us/nepa/nepa_project_exp.php?project=18922.

DATES: Project scoping was initiated with publication of a legal notice in the newspaper of record, the Idaho Statesman, on May 7, 2014. This initial scoping period ended on June 9, 2014. Following review of comments received and additional review with the interdisciplinary team (IDT), the Responsible Official has decided to proceed with preparation of an EIS. As a result, additional comments concerning the scope of the analysis will be accepted for an additional 30 days following publication of this NOI. Comments must be received by September 8, 2014. The publication date in the Federal Register is the only means for calculating the comment period. The draft environmental impact statement is expected in December 2014, and the final environmental impact statement and Record of Decision (ROD) are expected in June 2015.

This project is being planned under authorization of the Pre-decisional Administrative Review Process defined by 36 CFR part 218. This new rule replaces the previous project decision appeal rules defined in 36 CFR part 215. The new rule provides the public an opportunity to comment and express concerns on projects before decisions are made, rather than after. The Forest Service believes this aligns with our collaborative approach to forest management and increases the likelihood of resolving those concerns, resulting in better, more informed decisions.

Individuals and entities who submit specific written comments at this stage and/or already provided comments during the earlier comment period from May 7 through June 9, 2014, will be eligible to object. An additional comment opportunity will also be provided during the comment period for review of the Draft EIS (DEIS) and those who provide specific written comments during this comment period will also be eligible to object. For more information on 36 CFR Part 218, see the Federal Register, Volume 78, No. 59, March 27, 2013

ADDRESSES: Written, facsimile, hand-delivered, verbal, and electronic comments concerning this project will be accepted. Specific written comments must be submitted to: Boise National Forest, Idaho City Ranger District, Attention: District Ranger, P.O. Box 129, Idaho City, ID 83631; or by fax to 208-392-6684. The office hours for those submitting hand-delivered comments are: 8 a.m. to 4:30 p.m. Monday through Friday, excluding holidays. Oral comments may also be provided at the Idaho City Ranger District office during normal business hours via telephone 208-392-6681 or in person. However; please be aware that to have standing to object, specific written comments must be provided at some point during this comment period, the comment period on the DEIS, or previously provided during the initial scoping period initatied on May 7, 2014.

Comments may also be submitted through the Becker Integrated Resource Project Web page at www.fs.fed.us/nepa/nepa_project_exp.php?project=18922. To submit comments using the Web form select “Comment on Project” under “Get Connected” on the right panel of the project's Web page.

Email comments must be submitted in a format such as an email message, plain text (.txt), rich text format (.rtf), Adobe (.pdf) and Word (.doc) to comments-intermtn-boise-idaho-city@fs.fed.us. Please put “Becker Integrated Resource Project” in the subject line of email comments. Comments must have an identifiable name attached or verification of identity will be required. A scanned signature may serve as verification on electronic comments.

Comments or requests received in response to this publication, including names and addresses of those who respond, will be part of the public record for this proposed action.

Comments received in response to this request will be available for public inspection on the “Public Comment Reading Room” at the project Web site: www.fs.fed.us/nepa/nepa_project_exp.php?project=18922.

FOR FURTHER INFORMATION CONTACT: Randall Hayman, Forest Planner, Boise National Forest at the email address above or by phone at 208-373-4157.

Individuals who use telecommunication devices for the deaf (TDD) may call the Federal Information Relay Service (FIRS) at 1-800-877-8339 between 8 a.m. and 8 p.m., Eastern Time, Monday through Friday.

SUPPLEMENTARY INFORMATION: The 19,327-acre Becker project area falls within the Middle Crooked River Watershed (HUC 17050110503), formerly named the Beaver-Edna watershed, and Pikes Fork (HUC 17050110502) subwatersheds; both subwatersheds are part of the larger Crooked River Watershed. The area is located approximately 18 miles northeast of Idaho City, Idaho, and about 48 miles northeast of Boise, Idaho, in Boise County . The following primary drainages and streams are located in the project area: Crooked River, Whoop-Um-Up Creek, Lamar Creek, Beaver Creek, Pikes Fork Creek, Banner Creek, Little Beaver Creek, and Edna Creek. The Pilot Peak mountain landform lies in the southwest corner of the project area, State Highway 21 bisects the area, Banner Ridge lies along the north end, and Crooked River and Lamar Creek roughly form the southern boundary of the project area.

Purpose and Need for Action: Four purposes have been identified for the project: (1) Contribute to the restoration of low- to mid-elevation forests in the project area; forests that fall within the non-lethal and mixed1 fire regime. Modifying forest densities, tree size classes, and species composition and breaking-up the horizontal and vertical wildland fuel continuity will reduce the risk of uncharacteristic stand-replacement wildfire and improve forest resiliency. Moving conditions toward those that are more representative of the desired condition for the fire regimes in the project area will benefit wildlife habitat restoration, as well as provide greater assurance that forested overstory cover in this landscape, which attracts recreational users to the area, is sustained over time; (2) Improve watershed conditions by reducing motorized route-related impacts to water resources, fish, soil, and wildlife and associated habitats while providing for a safe and efficient transportation system necessary to meet long-term management needs. (Travel Analysis Process Report for the Becker Restoration Project (USDA Forest Service, May 2014)); (3) Improve and enhance the quality and diversity of recreational opportunities in the Middle Crooked River and Pikes Fork subwatersheds by reducing risk of loss of forested overstory cover, providing for a variety of recreation experiences, and reducing the potential for conflicts between motorized and non-motorized recreational users; and (4) Support the local and regional economies by providing enhanced recreational opportunities by utilizing wood products from the suited timber base, and by implementing forest restoration activities.

Proposed Action: In the context of Boise National Forest Plan desired conditions (Forest Service 2010b, Appendices A and E), the cumulative effects of past and present disturbances, fire suppression, and management actions have resulted in departed forested stand and landscape patch conditions. These departed conditions have increased the risk of uncharacteristic forest stand-replacing wildfires; reduced quantity and quality of habitat for wildlife species of conservation concern associated with non-lethal fire regimes (e.g., white-headed woodpecker); and redistributed habitat for wildlife species whose source habitat is associated more with mixed1 fire regimes (e.g., flammulated owl) in areas where it historically would not have occurred. Habitat has generally increased in the mixed1 fire regime patches and decreased in the non-lethal patches.

To address Purpose #1, vegetation restoration utilizing (1) commercial timber harvest activities would be conducted on about 3,243 acres utilizing tractor and tractor/off-road jammer logging systems; (2) miscellaneous wood products would be removed through thinning on an additional 1,547 acres; and (3) non-commercial thinning of small diameter trees would occur on an additional 3,452 acres, mostly within existing plantations, with no product removal. Total acres proposed for mechanical vegetative treatment would be 8,242, of which about 25% would be within riparian conservation areas (RCAs) as defined in the Boise National Forest Plan, Appendix B. Approximately 5.7 miles of temporary roads are anticipated to be constructed to support commercial timber harvest activities.

Both activity fuel treatments (i.e., fuels resulting from mechanical treatments) and natural fuels treatments would occur on approximately 9,796 acres. Activity fuels treatments include combinations of (1) chip, lop and scatter, handpile and burn, and/or burn concentrations; (2) whole tree yard to landings, lop and scatter, handpile and burn and/or burn concentrations; and (3) yard bole material to landings, handpile and burn concentrations, and lop and scatter. Natural fuels treatments include both direct and indirect application of prescribed fire. Within 3-5 years following mechanical treatments and completion of initial activity fuel activities, follow-up restoration prescribed fire treatments are anticipated to be applied across approximately 10,624 acres of the 19,327 acre project area.

To address Purpose #2, approximately (1) 4.9 miles of NFS roads would be reconstructed; (2) 1.3 miles of new road would be constructed; (3) 3.9 miles of unauthorized routes would be added to the transportation system; (4) 23.3 miles of NFS roads and 7.5 miles of unauthorized routes would be decommissioned; and (5) 6.9 miles of NFS roads would be converted to trails. As a result of road treatments, the 78.1 miles of roads currently open to public use for full size vehicles would be reduced to 53 miles. However, as discussed under Purpose #3 below, 23.7 miles of new motorized trail would be developed and open to public motorized use for vehicles less than or equal to 50 inches in width. Thus, total miles of roads and trails open to public motorized use would be 76.4 miles, a net reduction of routes open to public motorized use of 1.4 miles from the current situation.

In addition to the road management activities identified above, 23 aquatic organism passage barriers (culverts within existing roads) would be treated to remove barriers. This includes removal or replacement of 7 culverts within priority critical bull trout habitat and another 15 culverts outside priority critical bull trout habitat. In addition, 1 culvert would be treated through outlet pool modification in order to eliminate barrier concerns.

To address Purpose #3, new motorized and non-motorized trail opportunities will be developed and/or authorized. These trail systems will take advantage of existing NFS roads and/or unauthorized routes to the extent practicable in order to minimize the need for new trail construction and associated disturbance. Overlap of the motorized and non-motorized system and shared use on NFS roads open to full size motor vehicle public use will be minimized to reduce potential user conflicts, user safety issues, and improve the overall quality of the recreation experience for all user groups. Specifically, (1) a new 23.7 mile motorized trail will be designated with supporting trailhead facilities; (2) 41.7 miles of summer non-motorized trails would be authorized; and (3) 55.7 miles of winter non-motorized trails would be authorized. To further reduce conflicts and potential safety issues between motorized and non-motorized winter recreationists and improve the quality of the overall quality of the non-motorized recreation experience within the project area, the winter motorized restriction area east of Highway 21 in the project area would be extended to areas adjacent to the non-motorized trail system west of Highway 21 and in the southern portion of the project area.

To address Purpose #4, several of the aspects of the proposed action will provide support to local and regional economies including (1) by accomplishing Purposes #1 and #3, improvements and sustainability of the recreational use and experience within the Becker project area will continue to provide recreational user support, resulting in both direct and indirect benefits to local and regional economies; (2) wood products will also be an output of accomplishing Purpose #1. Specifically, it is expected the following wood products would be generated, (a) 6-8 million board feet of sawlogs, (b) a quarter million board feet of post and pole material, (c) more than 1,700 cords of fuelwood, and (d) more than 42,000 tons of woody biomass would be provided; and (3) other restoration activities are anticipated to generate economic outputs to support local and regional economies. This includes contract work for (a) road realignment, construction, reconstruction, and maintenance; (b) motorized and non-motorized recreational trail realignment, construction, reconstruction, and maintenance; (c) aquatic organism passage culvert replacement, removal and/or improvements; (d) non-commercial tree thinning; (e) installation of road closure barriers (seasonal and long term); and (f) activity fuel treatments, both mechanical and prescribed fire.

In addition to the actions developed to specifically address Purposes #1 through #4, an amendment to the Forest Plan standard 0763 is proposed to (1) add a modification Visual Quality Objectives (VQOs) to the motorized trail proposed to be designated; (2) partial retention VQOs to the winter and summer non-motorized trails to be authorized; (3) partial retention VQOs around the recreational Yurts in the project area; and (4) change the foreground retention requirement along Highway 21 to partial retention to allow for accomplishment of vegetation restoration activities.

Possible Alternatives: Additional alternatives may be developed that include one or more of the following components: (1) Adding acres for vegetation restoration over that identified in the proposed action in areas accessible from the existing transportation system to improve management efficiency and economic return to support other restoration work; (2) retention of larger diameter trees greater than or equal to 18 inches diameter, throughout the project area; (3) reducing the amount of soil, water and wildlife habitat impact by reducing the acres of ground base logging systems and converting those acres to helicopter yarding systems; (4) similarly, use helicopter yarding systems around the non-motorized summer trail system to reduce the need to re-open roads that have vegetated in and, in their current condition, provide for a quality recreational experience; (5) open access roads to the yurts for use by renters either seasonally or yearlong, that were closed under the proposed action; (6) develop the motorized trail for use by vehicles less than or equal to 60 inches in width, rather than limiting it to less than or equal to 50 inches in width; (7) eliminate the proposed motorized trail system to reduce impacts on soil, water, fish and wildlife habitat; (8) reroute proposed motorized trail locations out of RCAs to the extent practicable; (9) provide a greater separation between the motorized and non-motorized trail systems to minimize the noise impacts on the quality of the non-motorized recreation experience; and (10) include a seasonal closure from May 1 to June 15 to all mechanized equipment on seasonally closed motorized roads/trails and non-motorized trails east of Highway 21 and north of Beaver Creek to minimize disturbance to big game during the calving period.

Responsible Official: The Responsible Official is the Forest Supervisor for the Boise National Forest, Cecilia R. Seesholtz.

Nature of Decision to be Made: The six decisions to be made include: (1) Should vegetation maintenance and restoration treatments (mechanical and fire) in the Project area be implemented, and if so, which forested stands should be treated, and what silvicultural prescriptions and methods should be applied? (2) Should the transportation system be managed within the Project area as recommended in the Travel Analysis Process Report for the Becker Restoration Project (USDA Forest Service, May 2014), and if so, which road management treatments should be implemented? (3) Should recreation management activities in the Project area be implemented, and if so, which motorized and/or non-motorized proposed trails/trailhead improvements should be implemented, including: (a) Should the proposed motorized trail be designated as a motorized recreation trail per 36 CFR 212.51, subpart B, and if so, which portions and for what type of vehicle use? (b) Should the proposed non-motorized trails be authorized, and if so, which portions and for what type of recreation user? (c) Should motorized winter restrictions (i.e., area restriction) be added to the winter travel map per 36 CFR 212.51, subpart C, and if so, which portions? (4) Should culvert treatments be implemented to improve access to aquatic habitat in the Project area, and if so, which culverts should be removed or replaced? (5) What design features and/or mitigation measures should be applied to activities to mitigate undesirable effects? (6) Should Forest Plan standard 0763 be amended to add and/or modify VQOs around proposed trails and along Highway 21, and if so, which VQOs should be added and/or modified?

Preliminary Issues: Eleven preliminary issues have been identified: (1) Tractor-jammer logging destroys ground cover, exposes mineral soil to erosion, and compacts soils from reduced absorption and increased runoff. Logging systems that result in the lightest ecological impacts on the forest should be used (e.g. helicopter and cable or skyline systems); (2) Re-opening roads/trails used by mountain bikers, hikers, and equestrians, and staff to allow for log hauling and forest thinning, will change the road/trail surface, remove existing vegetation within the road prisms, changing their overall character. This will impact the quality of the recreation experience for the users of these trails; (3) Construction of new roads, including temporary roads, are not appropriate in already heavily roaded or degraded ecosystems; (4) Removal of trees greater than 18 inches in dbh, unless there are site-specific exceptions, may impact the retention and/or requirement of old forest habitat components such as snags, down trees and understory vegetation; (5) If the public access roads to the Skyline (Road 362F) and Stargaze (Road 394B) yurt summer parking spots are closed, summer use will drop dramatically if the public has to walk in 1.5 to 2 miles from Highway 21; (6) 50 inch width limit on proposed ATV trails does not take into account the increased popularity of UTV vehicles. UTV's are not limited to utilitarian duties any longer. Most manufacturers produce sport versions with high popularity. Most ATV users are migrating to UTV usage; (7) New trails in the RCA will impact riparian function and process, particularly given the existing high road densities in the project area; (8) Designation of a motorized trail that overlaps portions of the non-motorized trails to be authorized will result in user conflicts and reduce the quality of experience for the non-motorized users; (9) Designation of the proposed motorized trail will not be consistent with wildlife and aquatic resource objectives; (10) Use of the non-motorized trail system during the spring results in big game disturbance during critical periods (i.e., calving); and (11) Winter motorized travel restrictions should not be a part of this project. No evidence is shown that there is a need to designate winter non-motorized trails which include winter motorized travel restrictions in areas around those trails.

Permits and Licenses that may be Required: The following permits may be required to implement the Proposed Action under the Clean Water Act: (1) CWA Section 404 Permit from the U.S. Army Corps of Engineers; (2) Stream Alteration Permit from the Idaho Department of Water Resources; (3) Water Quality Standards Short Term Activity Exemption from the Idaho Department of Environmental Quality (IDEQ); (4) National Pollutant Discharge Elimination System (NPDES) permit from the U.S. Environmental Protection Agency; (5) CWA Section 401 Certification from IDEQ; (6) Conditional use permit and road maintenance agreement from affected County; and (7) Other permits from Idaho Transportation Department and/or other entities.

Early Notice of Importance of Public Participation in Subsequent Environmental Review: A Notice of Availability (NOA) will be published in the Federal Register and a legal notice will be published in the newspaper of record for the Boise National Forest, the Idaho Statesman, to inform the public when the DEIS is available for review and comment. The DEIS will be distributed to all parties who responded during the scoping period initiated on May 7, 2014, and in response to this NOI to prepare an EIS, or who otherwise notified the Agency at some point prior to release of the DEIS of their interest to receive information pertaining to this proposal.

The DEIS is expected to be published in December 2014. The comment period on the DEIS will end 45 days following the date of publication of the notice of availability (NOA) in the Federal Register. The publication date in the Federal Register is the only means for calculating the comment period for the DEIS. The Final EIS and draft ROD are anticipated to be released in March 2014 for the objection filing period. The Final FEIS and ROD are anticipated to be released in June 2014.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp. v. NRDC, 435 U.S. 519, 553 (1978). Also, environmental objections that could be raised at the scoping, DEIS, or objection filing stage but that are not raised until after completion of the final environmental impact statement and final decision may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the formal comment periods identified above so that substantive comments and objections are made available to the Forest Service at a time when they can be meaningfully considered and are able to respond to them in the final environmental impact statement and decision.

To assist the Forest Service in identifying and considering issues and concerns on the proposed action, comments should be as specific as possible; to have standing to object during the objection filing period, specific written comments must be provided as defined at 36 CFR part 218. Reviewers may wish to refer to the Council on Environmental Quality Regulations for implementing the procedural provisions of the National Environmental Policy Act at 40 CFR 1503.3 in addressing these points.

Dated: July 31, 2014.
Cecilia R. Seesholtz,
Forest Supervisor, Boise National Forest.

[FR Doc. 2014-18809 Filed 8-7-14; 8:45 am]

BILLING CODE 3410-11-P